DEPARTMENT OF AGRICULTURE

Animal and Plant Health Inspection Service

[Docket No. APHIS-2010-0074]

Notice of Decision To Issue Permits for the Importation of Fresh Celery, Arugula, and Spinach From Colombia into the Continental United States

AGENCY: Animal and Plant Health Inspection Service, USDA.

ACTION: Notice.

SUMMARY: We are advising the public of our decision to begin issuing permits for the importation into the continental United States of fresh celery, arugula, and spinach from Colombia. Based on the findings of three pest risk analyses, which we made available to the public for review and comment through a previous notice, we believe that the application of one or more designated phytosanitary measures will be sufficient to mitigate the risks of introducing or disseminating plant pests or noxious weeds via the importation of fresh celery, arugula, and spinach from Colombia.

DATES: Effective Date: May 18, 2012.

FOR FURTHER INFORMATION CONTACT: Ms. Dorothy C. Wayson, Senior Regulatory Coordination Specialist, PPQ-PHP-RPM, 4700 River Road Unit 133, Riverdale, MD 20737-1236; (301) 851-2036.

SUPPLEMENTARY INFORMATION:

Background

Under the regulations in “Subpart-Fruits and Vegetables” (7 CFR 319.56-1 through 319.56-56, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis (PRA), can be safely imported subject to one or more of the designated phytosanitary measures listed in paragraph (b) of that section. Under that process, APHIS publishes a notice in the Federal Register announcing the availability of the PRA that evaluates the risks associated with the importation of a particular fruit or vegetable. Following the close of the 60-day comment period, APHIS may begin issuing permits for importation of the fruit or vegetable subject to the identified designated measures if: (1) No comments were received on the PRA; (2) the comments on the PRA revealed that no changes to the PRA were necessary; or (3) changes to the PRA were made in response to public comments, but the changes did not affect the overall conclusions of the analysis and the Administrator's determination of risk.

In accordance with that process, we published a notice ¹ in the Federal Register on August 25, 2010 (75 FR 52302-52303, Docket No. APHIS-2010-0074), in which we announced the availability, for review and comment, of three PRAs that evaluate the risks associated with the importation into the continental United States of fresh celery, arugula, and spinach from Colombia. We solicited comments on the notice for 60 days ending on October 25, 2010. We received one comment by that date, from a State department of agriculture.

¹ To view the notice, the PRAs, and the comment we received, go to http://www.regulations.gov/#!docketDetail;D=APHIS-2010-0074.

In the two PRAs that analyzed the risks of importing fresh celery and spinach from Colombia into the United States, APHIS determined that one of the plant pests identified, the pea leaf miner (Liriomyza huidobrensis), has a high risk potential of following the pathway of fresh celery and spinach from Colombia. However, as noted in the PRAs, APHIS concludes that visual inspection for L. huidobrensis will sufficiently mitigate the risk of introducing this pest into the United States. The one comment we received referred to this potential risk and stated that visual inspection of these articles is not by itself adequate in mitigating the risk of introduction of this pest. The commenter noted that L. huidobrensis spends most of its lifecycle in the larval form mining leaves of the host plant material and would not be easily detectable along the midribs of leaves. The commenter recommends that a systems approach be undertaken that includes limiting growing of these articles to pest-free areas, fumigation, visual inspection at the point of origin and upon arrival in the United States, and an accompanying phytosanitary certificate stating that the plant material is free of L. huidobrensis.

Although we acknowledge the risk that these plant pests could potentially evade visual detection and be introduced into the United States, APHIS has permitted the entry of fresh celery, arugula, and spinach from several countries using similar mitigations for L. huidobrensis without significant pest issues. Spinach, for example, has been permitted entry into the United States from Belize, Costa Rica, El Salvador, Guatemala, Honduras, Nicaragua, and Panama with only visual inspection, and L. huidobrensis reportedly occurs in these countries. In response to the commenter's recommendations, we note that celery, arugula, and spinach from neighboring countries are already subject to inspection upon arrival in the United States, and that we will require the national plant protection organization (NPPO) of Colombia to issue phytosanitary certificates with an additional declaration attesting that shipments of celery and spinach are free of L. huidobrensis and other named plant pests.

In the notice ² we published announcing the availability of PRAs for the importation of fresh celery, arugula, and spinach from Colombia, Coccus viridis was included as being one of the quarantine pests of celery subject to mitigation. Subsequent to publication of that notice, we established that Coccus viridis no longer meets our definition of a quarantine pest and added it to our list ³ of pests that we no longer regulate. Therefore, we will not be including Coccus viridis among the pests listed in the additional declaration on the phytosanitary certificate.

² See footnote 1 to access the notice and PRAs on the Web.

³ This list can be viewed at http://www.aphis.usda.gov/plant_health/plant_pest_info/frsmp/non-reg-pests.shtml.

For these reasons, together with Colombia's use of integrated pest management practices in the production of fresh celery, arugula, and spinach, APHIS has concluded that imports of celery, arugula, and spinach from Colombia are unlikely to contain L. huidobrensis or other plant pests of concern. Accordingly, we have determined that no changes to the PRAs are necessary based on the comment.

Therefore, in accordance with the regulations in § 319.56-4(c)(2)(ii), we are announcing our decision to begin issuing permits for the importation into the continental United States of fresh celery, arugula, and spinach from Colombia subject to the following phytosanitary measures:

• Fresh celery, arugula, and spinach from Colombia must be imported as commercial shipments only.

• Each consignment of fresh celery, arugula, and spinach must be accompanied by a phytosanitary certificate issued by the NPPO of Colombia. The phytosanitary certificate for celery and spinach must include an additional declaration stating that each consignment has been inspected and is free of pests. The additional declaration for celery must state “This shipment has been inspected and is free from Copitarsia decolora, Planococcus lilacinus, and Liriomyza huidobrensis.” The additional declaration for spinach must state “This shipment has been inspected and is free from Copitarsia incommoda, Diabrotica speciosa, and Liriomyza huidobrensis.”

• Each shipment of celery, arugula, and spinach is subject to inspection upon arrival at the port of entry into the continental United States.

These conditions will be listed in the Fruits and Vegetables Import Requirements database (available at http://www.aphis.usda.gov/favir). In addition to those specific measures, fresh celery, arugula, and spinach from Colombia will be subject to the general requirements listed in § 319.56-3 that are applicable to the importation of all fruits and vegetables.

Authority: 7 U.S.C. 450, 7701-7772, and 7781-7786; 21 U.S.C. 136 and 136a; 7 CFR 2.22, 2.80, and 371.3.

Dated: Done in Washington, DC, this 14th day of May 2012.
Gregory L. Parham,
Administrator, Animal and Plant Health Inspection Service.

[FR Doc. 2012-12029 Filed 5-17-12; 8:45 am]

BILLING CODE 3410-34-P